DEPARTMENT OF AGRICULTURE

Forest Service

Umatilla National Forest Invasive Plants Treatment, Umatilla National Forest, Oregon and Washington

AGENCY: Forest Service, USDA.

ACTION: Notice of intent to prepare an environmental impact statement.

SUMMARY: The Umatilla National Forest proposes to treat approximately 25,000 acres of invasive plants located across the 1.4 million acre National Forest. It is anticipated that approximately 4,000 acres of both existing and newly discovered sites would be treated in any year. The proposed treatment methods includes: Manual pulling or use of hand tools, use of mechanical hand tools, herbicide, cultural methods such as grazing or mulching, and biological controls. The method used would depend on resource protection concerns for a given site.

DATES: Comments concerning the scope of the analysis must be received by May 17, 2006. The draft environmental impact statement is expected in March 2007 and the final environmental impact statement is expected in September 2007.

ADDRESSES: Send written comments about this project to Kevin D. Martin, Forest Supervisor, Umatilla National Forest, 2517 SW. Hailey Avenue, Pendleton, OR 97801. Electronic comments can be mailed to: comments-pacificnorthwest-umatilla@fs.fed.us.

FOR FURTHER INFORMATION CONTACT: Glen Westlund, Project Leader, Walla Walla Ranger District, 1415 West Rose Street, Walla Walla, WA 99362. Phone: 509-522-6009 or e-mail: gwestlund@fs.fed.us.

SUPPLEMENTARY INFORMATION:

Purpose and Need for Action

The purpose of this action is to provide a rapid and more comprehensive, up to date approach for the control and eradication of invasive plants that occur on the National Forest. The purpose of controlling or eradicating weed infestations is to maintain or improve the diversity, function, and sustainability of desired native plant communities and other natural resources that can be adversely impacted by invasive plant species. Specifically, there is an underlying need on the Forest to: (1) Implement treatment actions to contain and reduce the extent of invasive plants at existing inventoried sites, and (2) rapidly respond to new or expanded invasive plant sites as they may occur in the future.

Proposed Action

A detailed project description can be found on the Umatilla National Forest Web page in the NEPA reading room; http://www.fs.fed.us/r6/uma/projects/readroom. Various types of treatments would be used to contain, control, or eradicate invasive plants including the use of herbicides, physical, and biological methods. Treatments are proposed for existing or new infestations including new plant species that currently are not found on the Forest. Potential treatments based on existing mapped sites include: Biological or physical methods used on approximately 3,920 acres; approximately 17,300 acres of uplands would utilize chemical, physical, or biological methods; approximately 3,400 acres of riparian areas would be treated with chemical, physical, or biological methods, and physical methods on 50 acres. Any use of chemicals would be done in accordance with USDA Forest Service policies, regulations and Forest Plan Standards as well as product label requirements. Chemicals approved for use, within or outside riparian areas, are listed in the Pacific Northwest Region Invasive Plant Program Preventing and Managing Invasive Plants FEIS (Regional Invasive Plant EIS), April 2005 and ROD. Monitoring of treated sites would determine what follow-up treatments would be needed. Ground based or aerial application methods would be used based on accessibility, topography, and the size of treatment area and may include spot spraying, wicking, stem injection, hand broadcast and boom broadcast. Aerial application is proposed on approximately 1,420 acres covering 20 sites ranging in size from 1 to 418 acres. When needed to facilitate recovery, native seed would be used to recover the site and increase competition. Physical methods include manual control, hand mechanical and cultural methods. Biological weed control activities typically include the release of parasitic and “host specific” insects. Presently, insects are the primary biological control agent in use.

Responsible Official

The Forest Supervisor, Kevin Martin, will be the responsible official for making the decision and providing direction for the analysis. He can be contacted at the address listed above.

Nature of Decision To Be Made

The responsible official will decide what type of methods and how they will be used to control invasive plants on the Umatilla National Forest.

Scoping Process

The public is asked to provide the responsible official with written comments describing their concerns about this project. At this time, no public meetings are being planned.

Comment Requested

This notice of intent initiates the scoping process which guides the development of the environmental impact statement. When reviewing the proposed action, bear in mind that the Forest has been operating under the 1995 Umatilla National Forest Environmental Assessment for the Management of Noxious Weeds and herbicides were used only on a limited basis. Monitoring has indicated that this approach is not successful. In 2005 the Forest Service's Pacific Northwest Region completed and implemented the Pacific Northwest Region Invasive plant Program FEIS providing new direction and updating the hercides that would be permitted for use in the Region. The new hercides offer many advantages over the more limited set allowed previously, including greater selectivity, less harm to desired vegetation, reduced application rates, and lower toxicity to animals and people. The proposed treatments will be guided by this FEIS. The most useful comments to developing or refining the proposed action would be site specific concerns and those that can help us develop treatments that would be responsive to our goal to control, contain, or eradicate invasive plants as well as being cost effective. Prevention measures have already been built into the Regional Invasive Plant FEIS and will be implemented with all actions occurring on the Forest. The purpose of this proposed action is to begin treatments on known invasive plant sites and provide a mechanism to respond rapidly when new infestations are discovered.

Early Notice of Importance of Public Participation in Subsequent Environmental Review

A draft environmental impact statement will be prepared for comment. The comment period on the draft environmental impact statement will be 45 days from the date of Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningful consider them and respond to them in the final environmental impact statement.

To assist the Forest Service in identifying an considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: March 30, 2006.
Kevin D. Martin,
Forest Supervisor.

[FR Doc. 06-3281 Filed 4-5-06; 8:45 am]

BILLING CODE 3410-11-M